DEPARTMENT OF TRANSPORTATION

Federal Railroad Administration

Revised Guidance for Requesting One-Time Movement (OTM) Approvals

AGENCY: Federal Railroad Administration (FRA), Department of Transportation (DOT).

ACTION: Notice of Availability.

SUMMARY: FRA is notifying the public of the availability of revised guidance for requesting OTM approvals for the transportation by rail of nonconforming or leaking bulk hazardous material packages.

FOR FURTHER INFORMATION CONTACT: Karl Alexy, Acting Staff Director, Hazardous Materials Division, Office of Safety Assurance and Compliance, FRA, 1200 New Jersey Avenue SE., Mailstop 25, Washington, DC 20590, telephone: (202) 493-6245; or Lisa Matsinger, Railroad Safety Specialist, Hazardous Materials Division, Office of Safety Assurance and Compliance, FRA, 1200 New Jersey Avenue SE., Washington, DC 20590, telephone: (202) 493-0324.

SUPPLEMENTARY INFORMATION: The Hazardous Materials Regulations (HMR) issued by the Pipeline and Hazardous Materials Safety Administration (PHMSA) govern the rail transportation of hazardous materials. Title 49 CFR 174.50 of the HMR forbids the transportation by rail of a bulk packaging that no longer conforms to HMR or that is leaking, unless otherwise approved by FRA's Associate Administrator for Railroad Safety/Chief Safety Officer. These approvals are generally referred to as one-time movement approvals (OTMA).

Recently, FRA revised its OTMA procedures to streamline the overall OTMA process and to minimize unnecessary administrative burdens. On January 31, 2012, FRA issued Guidance Document HMG-127, which explains these revised procedures and the criteria for issuance of OTMAs. Guidance Document HMG-127 is available for review on FRA's Web site at: http://www.fra.dot.gov/Pages/789.shtml. In addition, FRA has created a revised OTMA application information document that also reflects the revised OTMA procedures. The new OTMA application information document is also available on FRA's Web site at: http://www.fra.dot.gov/rrs/pages/fp_1799.shtml. FRA staff can provide copies of these documents for review upon request if contacted at the address and telephone numbers listed above.

Issued in Washington, DC, on February 14, 2012.
Ron Hynes,
Acting Deputy Associate Administrator for Regulatory and Legislative Operations.

[FR Doc. 2012-3927 Filed 2-22-12; 8:45 am]

BILLING CODE 4910-06-P